DEPARTMENT OF COMMERCE

National Oceanic and Atmospheric Administration

[RTID 0648-XD916]

Schedule for Atlantic Highly Migratory Species Outreach Workshops; Correction

AGENCY: National Marine Fisheries Service (NMFS), National Oceanic and Atmospheric Administration (NOAA), Commerce.

ACTION: Notice of public outreach workshops; correction.

SUMMARY: NMFS has rescheduled the Atlantic Highly Migratory Species (HMS) Outreach Workshop originally scheduled for May 2, 2024 in Arecibo, Puerto Rico. This workshop was announced in the Federal Register on April 29, 2024. NMFS has rescheduled the HMS Outreach Workshop for May 2, 2024 at a new time and location in Arecibo, Puerto Rico.

DATES: The date of the rescheduled workshop has not changed. The HMS Outreach Workshop in Arecibo, Puerto Rico will be held on May 2, 2024. See the SUPPLEMENTARY INFORMATION section for the specific time.

ADDRESSES: The HMS Outreach Workshop will be held in Arecibo, Puerto Rico. See the SUPPLEMENTARY INFORMATION section for the specific location, which has changed.

FOR FURTHER INFORMATION CONTACT: Delisse Ortiz by email at delisse.ortiz@noaa.gov or by phone at 301-427-8530.

SUPPLEMENTARY INFORMATION: Atlantic HMS fisheries are managed under the 2006 Consolidated HMS Fishery Management Plan and its amendments pursuant to the Magnuson-Stevens Fishery Conservation and Management Act (16 U.S.C. 1801 et seq.) and consistent with the Atlantic Tunas Convention Act (16 U.S.C. 971 et seq.). HMS implementing regulations are at 50 CFR part 635.

Correction

In the Federal Register of April 29, 2023 (89 FR 33333, April 29, 2024) in FR Doc. 2024-09138 on page 33334, in the first column, the location of the fourth HMS Outreach Workshop listed under the heading “Workshop Dates, Times, and Locations” is corrected to read as follows:

4. May 2, 2024, 6 p.m.-8 p.m. AST, Club Náutico de Arecibo (Salón Comodoro), F8G2+7X4, 6680, Cambalache, Arecibo, PR 00612.

Authority: 16 U.S.C. 1801 et seq.

Dated: April 29, 2024.
Everett Wayne Baxter,
Acting Director, Office of Sustainable Fisheries, National Marine Fisheries Service.

[FR Doc. 2024-09592 Filed 4-30-24; 4:15 pm]

BILLING CODE 3510-22-P